DEPARTMENT OF COMMERCE

International Trade Administration

[C-427-810]

Corrosion-Resistant Carbon Steel Flat Products From France; Final Results of Full Sunset Review

AGENCY: Import Administration, International Trade Administration, Department of Commerce.

SUMMARY: On November 1, 2005, the Department of Commerce (“the Department”) initiated a sunset review of the countervailing duty (“CVD”) order on certain corrosion-resistant carbon steel flat products from France, pursuant to section 751(c) of the Tariff Act of 1930, as amended (“the Act”). On the basis of a notice of intent to participate and an adequate substantive response filed on behalf of the domestic interested party, an adequate response from respondent interested parties, and respondent interested parties' arguments regarding post-investigation privatization of Usinor, the Department determined to conduct a full sunset review of this CVD order pursuant to section 751(c) of the Act and 19 CFR 351.218(e)(2). As a result of this sunset review, the Department finds that revocation of the CVD order would be likely to lead to continuation or recurrence of a countervailable subsidy. Therefore, the Department is not revoking this CVD order.

DATES: Effective Date: October 4, 2006.

FOR FURTHER INFORMATION CONTACT: Stephanie Moore or Brandon Farlander, AD/CVD Operations, Import Administration, International Trade Administration, U.S. Department of Commerce, 14th Street & Constitution Avenue, NW., Washington, DC 20230; telephone (202) 482-3692 or (202) 482-4136, respectively.

SUPPLEMENTARY INFORMATION:

Background

On November 1, 2005, the Department initiated a sunset review of the CVD order on certain corrosion-resistant carbon steel flat products from France pursuant to section 751(c) of the Act. See Initiation of Five-Year (“Sunset”) Reviews, 70 FR 65884 (November 1, 2005).

On May 31, 2006, the Department published the preliminary results of the full sunset review of the instant order. See Preliminary Results of Full Sunset Review: Certain Corrosion-Resistant Carbon Steel Flat Products from France, 71 FR 30875 (May 31, 2006). Interested parties were invited to comment on our preliminary results. On July 11, 2006, we received a case brief from Duferco Coating SA and Sorral SA (collectively, “Duferco Sorral”). We also received comments from the European Commission and from Sollac Atlantique, Sollac, Lorraine, Arcelor FCS Commercial, and Arcelor International America, LLC (“respondent interested parties”). On July 17, 2006, we received a rebuttal brief from United States Steel Corporation (“domestic interested party”).

Scope of the Order

The merchandise covered by this order includes flat-rolled carbon steel products, of rectangular shape, either clad, plated, or coated with corrosion-resistant metals such as zinc, aluminum, or zinc-, aluminum-, or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable under the Harmonized Tariff Schedule of the United States (``HTSUS'') item numbers 7210.31.000, 7210.39.0000, 7210.41.000, 7210.49.0030, 7210.49.0090, 7210.60.0000, 7210.70.6030, 7210.70.6060, 7210.70.6090, 7210.90.1000, 7210.90.6000, 7210.90.9000, 7212.21.0000, 7212.29.0000, 7212.30.1030, 7212.30.1090, 7212.30.3000, 7212.30.5000, 7212.40.1000, 7212.40.5000, 7212.50.0000, 7212.60.0000, 7215.90.1000, 7215.90.5000, 7217.12.1000, 7217.13.1000, 7217.19.1000, 7217.19.5000, 7217.22.5000, 7217.23.5000, 7217.29.1000, 7217.29.5000, 7217.32.5000, 7217.33.5000, 7217.39.1000, 7217.33.5000, 7217.39.1000, and 7217.39.5000. Included in this order are flat-rolled products of non-rectangular cross-section where such cross-section is achieved subsequent to the rolling process (i.e., products which have been ``worked after rolling'')—for example, products which have been beveled or rounded at the edges. Excluded from this order are flat-rolled steel products either plated or coated with tin, lead, chromium, chromium oxides, both tin and lead (``terne plate''), or both chromium and chromium oxides (``tin-free steel''), whether or not painted, varnished or coated with plastics or other nonmetallic substances in addition to the metallic coating. Excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio. The HTSUS numbers are provided for convenience and customs purposes. The written description remains dispositive.

Analysis of Comments Received

All issued raised in this review are addressed in the Issue and Decision Memorandum (“Decision Memorandum”) from Stephen J. Claeys, Deputy Assistant Secretary for Import Adminstration, to James C. Leonard, III, Acting Assistant Secretary for Import Administration, dated September 27, 2006, which is hereby adopted by this notice. Parties can find a complete discussion of all issues raised in this review and the corresponding recommendation in this public memorandum which is on file in the Central Records Unit, Room B-099 of the main Commerce building. In addition, a complete version of the Decision Memorandum can be accessed directly on the Web at http://ia.ita.doc.gov/frn. The paper copy and electronic version of the Decision Memorandum are identical in content.

Final Results of Review

The Department determines that revocation of the CVD order on corrosion-resistant carbon steel flat products from France is likely to lead to continuation or recurrence of counteravailable subsidies at the following countervailing duty rate:

Manufacturer/exporter | Net subsidy margin (percent)
Country-Wide Rate | 0.16

Notification Regarding Administrative Protective Order

This notice serves as the only reminder to parties subject to administrative protective order (“APO”) of their responsibility concerning the return or destruction of proprietary information disclosed under APO in accordance with 19 CFR 351.305. Timely notification of return/destruction of APO materials or conversion to judicial protective order is hereby requested. Failure to comply with the regulations and the terms of an APO is a sanctionable violation.

We are issuing and publishing these results and notice in accordance with sections 751(c), 752, and 777(i)(1) of the Act.

Dated: September 27, 2006.
James C. Leonard, III,
Acting Assistant Secretary for Import Administration.

[FR Doc. 06-8485 Filed 10-3-06; 8:45 am]

BILLING CODE 3510-05-M